DEPARTMENT OF HOUSING AND URBAN DEVELOPMENT

[Docket No. FR-5477-N-38]

Federal Property Suitable as Facilities To Assist the Homeless

AGENCY: Office of the Assistant Secretary for Community Planning and Development, HUD.

ACTION: Notice.

SUMMARY: This Notice identifies unutilized, underutilized, excess, and surplus Federal property reviewed by HUD for suitability for use to assist the homeless.

FOR FURTHER INFORMATION CONTACT: Juanita Perry, Department of Housing and Urban Development, 451 Seventh Street SW., Room 7266, Washington, DC 20410; telephone (202) 708-1234; TTY number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Theresa Ritta, Division of Property Management, Program Support Center, HHS, room 5B-17, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Mark Johnston at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: Agriculture: Ms. Brenda Carignan, Department of Agriculture, Reporting Building, 300 7th Street, SW., Room 337, Washington, DC 20024: (202) 401-0787; Energy: Mr. Mark Price, Department of Energy, Office of Engineering & Construction Management, MA-50, 1000 Independence Ave., SW., Washington, DC 20585: (202) 586-5422; GSA: Mr. John E.B. Smith, General Services Administration, Office of Real Property Utilization and Disposal, 1800 F Street, NW., Room 7040, Washington, DC 20405; (202) 501-0084; Interior: Mr. Michael Wright, Acquisition & Property Management, Department of the Interior, 1801 Pennsylvania Ave., NW., 4th Floor, Washington, DC 20006: (202) 254-5522;

Navy: Mr. Albert Johnson, Department of the Navy, Asset Management Division, Naval Facilities Engineering Command, Washington Navy Yard, 1330 Patterson Ave., SW., Suite 1000, Washington, DC 20374; (202) 685-9305 (These are not toll-free numbers).

Dated: September 15, 2011.
Mark R. Johnston,
Deputy Assistant Secretary for Special Needs.

TITLE V, FEDERAL SURPLUS PROPERTY PROGRAM FEDERAL REGISTER REPORT FOR 09/23/2011

Suitable/Available Properties

Building

Colorado

Residence #2

Weld Country Rd.

Nunn CO 80648

Landholding Agency: Agriculture

Property Number: 15201130001

Status: Excess

Comments: 1,890 sq. ft.; recent use: residential.

Montana

Swan Lake Guard Station

MP69 HWY 83 South

Swan Lake MT 55911

Landholding Agency: GSA

Property Number: 54201130004

Status: Surplus

GSA Number: 7-A-MT-0514-2

Comments: Off-site removal only; 615 sq. ft, recent use: office space.

Rising Sun Boat

St. Mary Lake Glacier Nat'l Park

St. Mary Lake MT 59911

Landholding Agency: GSA

Property Number: 54201130005

Status: Surplus

GSA Number: 7-I-MT-0544-3

Comments: Off-site removal only; 358 sq. ft.; recent use: ticket office.

Kalispell Shop

1899 Airport Rd.

Kalispell MT 59901

Landholding Agency: GSA

Property Number: 54201130006

Status: Surplus

GSA Number: 7-A-MT-0632

Comments: Off-site removal only; 560 sq. ft.; recent use: storage bldg.

Rhode Island

FDA Davisville Site

113 Bruce Boyer Street

North Kingstown RI 02852

Landholding Agency: GSA

Property Number: 54201130008

Status: Excess

GSA Number: 1-F-RI-0520

Comments: 4,100 sq. ft.; recent use: storage; property currently has no heating (all repairs is the responsibility of owner).

Suitable/Unavailable Properties

Building

Alaska

Dalton-Cache Border Station

Mile 42 Haines Highway

Haines AK 99827

Landholding Agency: GSA

Property Number: 54201010019

Status: Excess

GSA Number: 9-G-AK-0833

Directions: Bldgs. 1 and 2

Comments: 1,940 sq. ft., most recent use-residential and off-site removal only.

Kansas

MKC Outer Marker FAA Site

Generally South of 2400 Steele Road

Kansas City KS 64106

Landholding Agency: GSA

Property Number: 54201120007

Status: Surplus

GSA Number: 7-U-KS-0525

Comments: 60 sq. ft., current use: support building, public road easement.

Ohio

LTC Dwite Schaffner

U.S. Army Reserve Center

1011 Gorge Blvd.

Akron OH 44310

Landholding Agency: GSA

Property Number: 54201120006

Status: Excess

GSA Number: 1-D-OH-836

Comments: 25,039 sq. ft., most recent use: Office; in good condition.

Texas

FAA RML Facility

11262 N. Houston Rosslyn Rd.

Houston TX 77086

Landholding Agency: GSA

Property Number: 54201110016

Status: Surplus

GSA Number: 7-U-TX-1129

Comments: 448 sq. ft., recent use: Storage, asbestos has been identified in the floor.

Rattle Snake Scoring Ste.

1085 County Rd. 332

Pecos TX 79772

Landholding Agency: GSA

Property Number: 54201120005

Status: Excess

GSA Number: 7-D-TX-0604-AM

Comments: 8,396 sq. ft., most recent use: Training ste., previously reported by Air Force and deemed “unsuitable” because property was in a secured area and published in May 2009.

Virginia

Hampton Rds, Shore Patrol Bldg

811 East City Hall Ave

Norfolk VA 23510

Landholding Agency: GSA

Property Number: 54201120009

Status: Excess

GSA Number: 4-N-VA-758

Comments: 9,623 sq. ft.; current use: Storage, residential.

Land

Colorado

Common Pt. Shooting Rng.

Bureau of Reclamation

Drake CO 80515

Landholding Agency: GSA

Property Number: 54201120003

Status: Excess

GSA Number: 7-1-CO-0678

Comments: 35.88 acres; If the purchaser ceases using the property as a firing range they will be held to a higher standard of lead remediation by the local and Federal environmental protection agencies.

Louisiana

Almonaster

4300 Almonaster Ave.

New Orleans LA 70126

Landholding Agency: GSA

Property Number: 54201110014

Status: Surplus

GSA Number: 7-D-LA-0576

Comments: 9.215 acres.

Unsuitable Properties

Building

New Mexico

15 Bldgs.

Los Alamos Nat'l Lab

Los Alamos NM 87545

Landholding Agency: Energy

Property Number: 41201130005

Status: Unutilized

Directions: 03-0782, 03-1549, 03-1550, 03-2018, 35-0261, 35-0262, 35-0263, 43-0024, 46-0181, 53-0404, 53-0889, 53-0773, 54-0283, 54-1009, 55-0099

Reasons: Extensive deterioration, Secured Area.

Virginia

Quarters 209

10800 George Wash. Memorial Hwy

Yorktown VA 23690

Landholding Agency: Interior

Property Number: 61201130001

Status: Excess

Reasons: Extensive deterioration.

Quarters 249

115 Jefferson Street

Williamsburg VA 23690

Landholding Agency: Interior

Property Number: 61201130002

Status: Excess

Reasons: Extensive deterioration.

Bldg. A128

Naval Station Norfolk

Norfolk VA 23511

Landholding Agency: Navy

Property Number: 77201130017

Status: Unutilized

Reasons: Extensive deterioration, Secured Area.

Land

Utah

Tract 962

Old AEC Mill Site

Monticello UT 84535

Landholding Agency: GSA

Property Number: 54201130007

Status: Surplus

GSA Number: 7-B-UT-431-AQ

Reasons: Other—Landlocked Not accessible by road.

[FR Doc. 2011-24150 Filed 9-22-11; 8:45 am]

BILLING CODE 4210-67-P